DEPARTMENT OF COMMERCE

National Oceanic and Atmospheric Administration

[I.D. 090403D]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Management Team (HMSMT) will hold a work session, which is open to the public.

DATES: The work session will be Wednesday, October 1, 2003 from 1 p.m. until 5 p.m. and Thursday, October 2 from 9 a.m. until business for the day is completed.

ADDRESSES: The work session will be held at the Hubbs-Sea World Research Institute, 2595 Ingraham Street, San Diego, CA 92109, telephone: (619) 226-3870.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: The main purpose of this work session is for the HMSMT to begin development of initial recommendations for a limited entry program for the high seas longline fishery, including a control date, qualifying period, qualifying landing amounts, capacity goal, and permit transferability. This work is in response to a request from the Council at the June 2003 meeting. The HMSMT will report their initial recommendations to the Council at the November 2003 meeting in San Diego, CA. Other matters related to the HMS Fishery Management Plan (FMP) may be discussed and included in the HMSMT report to the Council. However, formal action on limited entry or other HMS FMP-related issues will not occur at this work session.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: September 9, 2003.
Richard W. Surdi,
Acting Director, Office of Sustainable Fisheries, National Marine Fisheries Service.

[FR Doc. 03-23433 Filed 9-12-03; 8:45 am]

BILLING CODE 3510-22-S